GENERAL SERVICES ADMINISTRATION
Privacy Act of 1974; Proposed Revisions to a Privacy Act System of Records

AGENCY:
General Services Administration.

ACTION:
Notice of proposed revision to an existing Privacy Act system of records.

SUMMARY:
The General Services Administration (GSA) proposes to revise the government-wide system of records, Travel Charge Card Program (GSA/GOVT-3). The purpose of the system is to maintain information that enables Federal government agencies to operate, manage, and control commercial travel and transportation by individuals on official government business and to provide cost data on travel, transportation, and related expenses worldwide. The system is being revised to include the date of birth of individuals whose records are in the system to facilitate identification of persons traveling for the Federal government. This notice also updates the authorities for maintaining the system and System Manager contact information; clarifies the scope of the system to show that it applies to all agencies; and includes editorial changes, also for clarification purposes.

DATES:
Interested persons may submit written comments on this proposal. The revision will become effective without further notice on March 1, 2004 unless comments received on or before that date require changes to the proposal.

ADDRESSES:
Comments should be submitted to the GSA Privacy Act Officer (CI), Office of the Chief People Officer, General Services Administration, 1800 F Street NW., Washington DC 20405.

FOR FURTHER INFORMATION CONTACT:
Contact the GSA Privacy Act Officer at the above address, or call 202-501-1452.

Dated: January 26, 2004.
Fred Alt,
Chief Information Officer, Office of the Chief People Officer.

GSA/GOVT-3
System name:
Travel Charge Card Program.
System location:
This system of records is located in the finance office of the local installation of the Federal agency for which an individual has traveled. Records necessary for a contractor to perform under a contract are located at the contractor's facility.
Categories of individuals covered by the system:

Individuals covered by the system are current Federal employees who have their own government assigned charge card and all other Federal employees and authorized individuals who use a Federal account number for travel purposes.
Categories of records in the system:
Records include name, address, Social Security Number, date of birth, employment information, telephone numbers, information needed for identification verification, travel authorizations and vouchers, charge card applications, charge card receipts, terms and conditions for use of charge cards, and monthly reports from contractor(s) showing charges to individual account numbers, balances, and other types of account analyses.
Authority for maintenance of the system:
5 U.S.C. 5707 and implementing Federal Travel Regulation, 41 CFR 300-304; 5 U.S.C. 5738; E.O. 11609; 36 CFR 13747 (1971); 31 U.S.C. 1348; Public Law. 107-56 § 326.
Purpose(s):
To assemble in one system information to provide government agencies with: (1) Necessary information on the commercial travel and transportation payment and expense control system which provides travelers charge cards and the agency an account number for official travel and related travel expenses on a worldwide basis; (2) attendant operational and control support; and (3) management information reports for expense control purposes.
Routine uses of records maintained in the system, including categories of users and the purposes of such uses:
a. To disclose information to a Federal, State, local, or foreign agency responsible for investigating, prosecuting, enforcing, implementing, or carrying out a statute, rule, regulation, or order, where an agency becomes aware of a violation or potential violation of civil or criminal law or regulation.
b. To disclose information to a Member of Congress or a congressional staff member in response to an inquiry made at the request of the individual who is the subject of the record.
c. To disclose information to the contractor in providing necessary information for issuing credit cards.
d. To disclose information to a requesting Federal agency in connection with hiring or retaining an employee; issuing a security clearance; reporting an employee investigation; clarifying a job; letting a contract; or issuing a license, grant, or other benefit by the requesting agency where the information is relevant and necessary for a decision.
e. To disclose information to an appeal, grievance, or formal complaints examiner; equal employment opportunity investigator; arbitrator; exclusive representative; or other official engaged in investigating, or settling a grievance, complaint, or appeal filed by an employee.
f. To disclose information to officials of labor organizations recognized under Pub. L. 95-454, when necessary to their duties of exclusive representation on personnel policies, practices, and matters affecting working conditions.
g. To disclose information to a Federal agency for accumulating reporting data and monitoring the system.
h. To disclose information in the form of listings, reports, and records of all common carrier transactions including refunds and adjustments to an agency by the contractor to enable audits of carrier charges to the Federal government.
Policies and practices for storing, retrieving, accessing, retaining, and disposing of records in the system:
Storage:
Paper records are stored in file folders. Electronic records are stored within a computer and associated equipment.
Retrievability:
Records are filed by name, Social Security Number, and/or credit card number.
Safeguards:
Paper records are stored in lockable file cabinets or secured rooms. Electronic records are protected by passwords, access codes, and entry logs. There is restricted access to credit card account numbers, and information is released only to authorized users and officials on a need-to-know basis.
Retention and disposal:
Records are kept for 3 years and then destroyed, as required by the General Records Retention Schedules issued by the National Archives and Records Administration (NARA).
System manager and address:
Assistant Commissioner, Office of Acquisition (FC), Federal Supply Service, General Services Administration, Crystal Mall Building 4, 1941 Jefferson Davis Highway, Arlington, VA 22202.
Notification procedure:
Inquiries by individuals should be addressed to the Finance Officer of the agency for which they traveled.
Record access procedures:
Requests from individuals should be addressed to the Finance Officer of the agency for which they traveled. Individuals must furnish their full name and the authorizing agency and its component to facilitate the location and identification of their records.
Contesting record procedures:
Individuals wishing to request amendment of their records should contact the Finance Officer of the agency for which they traveled. Individuals must furnish their full name and the authorizing agency and component for which they traveled.
Record source categories:
Charge card applications, monthly reports from the contractor, travel authorizations and vouchers, credit card companies, and data interchanged between agencies.

[FR Doc. 04-1946 Filed 1-29-04; 8:45 am]
BILLING CODE 6820-34-P